DEPARTMENT OF THE INTERIOR

National Park Service

National Register of Historic Places; Notification of Pending Nominations and Related Actions

Nominations for the following properties being considered for listing or related actions in the National Register were received by the National Park Service before August 28, 2010. Pursuant to section 60.13 of 36 CFR Part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington DC 20005; or by fax, 202-371-6447. Written or faxed comments should be submitted by October 12, 2010.

Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

CONNECTICUT

Hartford County

First Lutheran Church of the Reformation, 77 Franklin Square, New Britain, 10000825

FLORIDA

Palm Beach County

Vedado Historic District, Roughly bounded Merril Ave, Southern Blvd, Parker Ave & Paseo Morella, West Palm Beach, 10000821

Sarasota County

Downtown Sarasota Historic District (Boundary Decrease), 1400 block of Main St, Sarasota, 10000815

MISSOURI

Callaway County

White Cloud Presbyterian Church and Cemetery, S side SR F at intersection with CR 232, Fulton, 10000817

Jackson County

Baltimore Avenue Historic District, 807-815 Wyandotte, Kansas City, 10000824

Jasper County

Joplin and Wall Avenues Historic District, (Historic Resources of Joplin, Missouri) Portions of S. Joplin and Wall Aves, W First, Second, Third Sts, Joplin, 10000819

South Main Street Historic District, (Historic Resources of Joplin, Missouri) W side S Main St, between W First and W Second Sts, Joplin, 10000818

TEXAS

Travis County

Westgate Tower, 1122 Colorado St, Travis, 10000820

WISCONSIN

Milwaukee County

Kegel's Inn, 5901-5905 W National Ave, West Allis, 10000823

Koelsch Funeral Home, 7622 W Greenfield Ave, West Allis, 10000822

McMicken, Alexander Herschel and Pauline G., House, 1508 S 80th St, West Allis, 10000816

[FR Doc. 2010-24043 Filed 9-24-10; 8:45 am]

BILLING CODE P